DEPARTMENT OF LABOR

Employment and Training Administration

[TA-W-52,559 and TA-W-52,559A]

Pillowtex Corporation, Bed and Bath Division, Including Leased Workers of Corestaff Agency, Rakes Staffing, A & R Agency and Ajilon Staffing, Kannapolis, NC; Pillowtex Corporation, New York Design and Sales Office, New York, NY; Amended Certification Regarding Eligibility To Apply for Worker Adjustment Assistance

In accordance with section 223 of the Trade Act of 1974 (19 U.S.C. 2273) the Department of Labor issued a Notice of Certification Regarding Eligibility to Apply for Worker Adjustment Assistance on September 5, 2003, applicable to workers of Pillowtex Corporation, Bed and Bath Division, including leased workers of Corestaff Agency, Rakes Staffing, A & R Agency, and Ajilon Staffing, Kannapolis, North Carolina. The notice was published in the Federal Register on October 10, 2003 (68 FR 58720).

At the request of the petitioners, the Department reviewed the certification for workers of the subject firm. The workers are engaged in the production of sheets.

The company reports that worker separations occurred at New York Design and Sales Office, New York, New York location of the subject firm. The New York Design and Sales Office workers provide sales, and designing function services for the subject firm's production plant located in Kannapolis, North Carolina.

Based on these findings, the Department is amending the certification to include workers of Pillowtex Corporation, New York Design and Sales Office, New York, New York.

The intent of the Department's certification is to include all workers of Pillowtex Corporation who were adversely affected by increased imports.

The amended notice applicable to TA-W-52,559 is hereby issued as follows:

All workers of Pillowtex Corporation, Bed and Bath Division, Kannapolis, North Carolina and leased workers of Corestaff Agency, Rakes Staffing, A & R Agency and Ajilon Staffing, Kannapolis, North Carolina producing sheets at Fieldcrest Cannon, Inc., a subsidiary of Pillowtex Corporation, Bed and Bath Division, Kannapolis, North Carolina (TA-W-52,559) and Pillowtex Corporation, New York Design and Sales Office, New York, New York (TA-W-52,559A) who became totally or partially separated from employment on or after August 15, 2003, through September 5, 2005, are eligible to apply for adjustment assistance under section 223 of the Trade Act of 1974.

Signed in Washington, DC this 23rd day of December, 2003.
Elliott S. Kushner,
Certifying Officer, Division of Trade Adjustment Assistance.

[FR Doc. 03-32288 Filed 12-31-03; 8:45 am]

BILLING CODE 4510-30-P